DEPARTMENT OF HEALTH AND HUMAN SERVICES

Office of the National Coordinator for Health Information Technology; American Health Information Community Consumer Empowerment Workgroup Meeting

ACTION: Announcement of meeting.

SUMMARY: This notice announces the tenth meeting of the American Health Information Community Consumer Empowerment Workgroup in accordance with the Federal Advisory Committee Act (Pub. L. No. 92-463, 5 U.S.C., App.).

DATES: October 12, 2006, from 11 a.m. to 4 p.m.

ADDRESSES: Mary C. Switzer Building (330 C Street, SW., Washington, DC 20201), Conference Room 4090 (please bring photo ID for entry to a Federal building).

FOR FURTHER INFORMATION CONTACT: http://www.hhs.gov/healthit/ahic/ce_main.html.

SUPPLEMENTARY INFORMATION: The Workgroup members will be participating in a facilitated process intended to envision and describe a work in which personal health records have been widely adopted over a period of 10 years. This shared vision will be used to inform the future work of the Workgroup.

In addition, the Workgroup is soliciting written testimony on the following questions:

(1) What are the current business models for personal health records? How are personal health records being paid for and by whom?

(2) What are the market segments for the personal health records marketplace and what are the characteristics of the consumers and vendors for each segment?

The meeting will be available via Web cast at http://www.eventcenterlive.com/cfmx/ec/login/login1.cfm?BID=67.

Judith Sparrow,
Director, American Health Information Community, Office of Programs and Coordination, Office of the National Coordinator for Health Information Technology.

[FR Doc. 06-8295 Filed 9-26-06; 8:45 am]

BILLING CODE 4150-24-M